DEPARTMENT OF JUSTICE

Antitrust Division

Notice Pursuant to the National Cooperative Research and Production Act of 1993—The VMEbus International Trade Association

Notice is hereby given that, on September 10, 2004, pursuant to Section 6(a) of the National Cooperative Research and Production Act of 1993, 15 U.S.C. 4301 et seq. (“the Act”), VMEbus International Trade Association (“VITA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: VMEbus International Trade Association, Fountain Hills, AZ. The nature and scope of VITA's standards development activities are: Definitions, specifications, requirements, and methods of test for computer buses (specifically, but not limited to VMEbus, Futurebus+, VSBbus) and associated software. These specifications will involve Electrical, Protocol (Logical), and Physical (Mechanical) layers for Massively Parallel Architectures, IPC (Interprocessor Communications) channels, AUTOBAHN and other serial buses, Mezzanine Buses for centralized I/O models, Multichip modules, Field Buses (serial buses) for distributed I/O models, Parallel-grouped serial Sub-buses (multiport architectures) with Block Transfer Mechanisms, Reflective Memory Architectures, and other Intracrate Computer Buses.

Dorothy B. Fountain,
Deputy Director of Operations, Antitrust Division.

[FR Doc. 04-22885 Filed 10-12-04; 8:45 am]

BILLING CODE 4410-11-M